DEPARTMENT OF HOMELAND SECURITY

Coast Guard

33 CFR Part 117

[Docket No. USCG-2014-0552]

Drawbridge Operation Regulation; Harlem River, New York City, NY

AGENCY: Coast Guard, DHS.

ACTION: Notice of deviation from drawbridge regulation.

SUMMARY: The Coast Guard has issued a temporary deviation from the operating schedule that governs the operation of the Park Avenue Bridge across the Harlem River, mile 2.1, at New York City, New York. The deviation is necessary for replacement of the lift cables and rehabilitation of the operating system at the bridge. This temporary deviation allows the bridge to remain in the closed position for 179 days to perform major rehabilitation repairs.

DATES: This deviation is effective from September 15, 2014 through March 12, 2015.

ADDRESSES: The docket for this deviation, [USCG-2014-0552] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe Arca, Project Officer, First Coast Guard District, joe.m.arca@uscg.mil, or (212) 668-7165. If you have questions on viewing the docket, call Cheryl Collins, Program Manager, Docket Operations, telephone 202-366-9826.

SUPPLEMENTARY INFORMATION: The Park Avenue Bridge has a vertical clearance of 25 feet at mean high water and 30 feet at mean low water. The existing drawbridge operating regulations are found at 33 CFR 117.789(c).

The Harlem River has predominantly commercial vessel traffic that can pass under the Park Avenue Bridge in the closed position without a bridge opening.

The owner of the bridge, Metro North Railroad, requested a bridge closure to facilitate a major bridge rehabilitation project, the replacement of the bridge lift cables and replacement of the electrical and mechanical operating system at the bridge.

Under this temporary deviation, the Park Avenue Bridge may remain in the closed position from September 15, 2014 through March 12, 2015.

Vessels that can pass under the bridge in the closed position may do so at all times. There are no alternate routes. The bridge can't be opened in the event of an emergency during this rehabilitation construction.

In accordance with 33 CFR 117.35(e), the drawbridge must return to its regular operating schedule immediately at the end of the effective period of this temporary deviation. This deviation from the operating regulations is authorized under 33 CFR 117.35.

Dated: June 27, 2014.
C.J. Bisignano,
Supervisory Bridge Management Specialist, First Coast Guard District.

[FR Doc. 2014-16604 Filed 7-14-14; 8:45 am]

BILLING CODE 9110-04-P